DEPARTMENT OF HOMELAND SECURITY

Coast Guard

[USCG-2007-0045]

Collection of Information Under Review by Office of Management and Budget: OMB Control Numbers: 1625-0005, 1625-0020, 1625-0029, 1625-0031, and 1625-0085

AGENCY: Coast Guard, DHS.

ACTION: Thirty-day notice requesting comments.

SUMMARY: In compliance with the Paperwork Reduction Act of 1995, this request for comments announces that the U.S. Coast Guard is forwarding five Information Collection Requests (ICRs), abstracted below, to the Office of Information and Regulatory Affairs (OIRA) of the Office of Management and Budget (OMB) requesting an extension of their approval for the following collections of information: (1) 1625-0005, Application and Permit to Handle Hazardous Materials; (2) 1625-0020, Security Zones, Regulated Navigation Areas, and Safety Zones; (3) 1625-0029, Self-propelled Liquefied Gas Vessels; (4) 1625-0031, Plan Approval and Records for Electrical Engineering Regulations—Title 46 CFR Subchapter J; and (5) 1625-0085, Streamlined Inspection Program. Our ICRs describe the information we seek to collect from the public. Review and comments by OIRA ensure we only impose paperwork burdens commensurate with our performance of duties.

DATES: Please submit comments on or before April 4, 2008.

ADDRESSES: To prevent duplicate submissions to the docket [USCG-2007-0045] or to OIRA, please submit your comments and related material by only one of the following means:

(1) Electronic submission. (a) To Coast Guard docket at http://www.regulation.gov. (b) To OIRA by e-mail to: nlesser@omb.eop.gov.

(2) Mail or hand delivery. (a) To Docket Management Facility (DMF) (M-30), U.S. Department of Transportation, West Building Ground Floor, Room W12-140, 1200 New Jersey Avenue, SE., Washington, DC 20590-0001. Hand deliver between the hours of 9 a.m. and 5 p.m., Monday through Friday, except Federal holidays. The telephone number is 202-366-9329. (b) To OIRA, 725 17th Street, NW., Washington, DC 20503, to the attention of the Desk Officer for the Coast Guard.

(3) Fax. (a) To DMF, 202-493-2251. (b) To OIRA at 202-395-6566. To ensure your comments are received in time, mark the fax to the attention of Mr. Nathan Lesser, Desk Officer for the Coast Guard.

The DMF maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://www.regulations.gov.

Copies of the complete ICRs are available through this docket on the Internet at http://www.regulations.gov. Additionally, copies are available from Commandant (CG-611), U.S. Coast Guard Headquarters, (Attn: Mr. Arthur Requina), 2100 2nd Street, SW., Washington, DC 20593-0001. The telephone number is 202-475-3523.

FOR FURTHER INFORMATION CONTACT: Mr. Arthur Requina, Office of Information Management, telephone 202-475-3523 or fax 202-475-3929, for questions on these documents. Contact Ms. Renee V. Wright, Program Manager, Docket Operations, 202-366-9826, for questions on the docket.

SUPPLEMENTARY INFORMATION: The Coast Guard invites comments on whether this information collection request should be granted based on it being necessary for the proper performance of Departmental functions. In particular, the Coast Guard would appreciate comments addressing: (1) The practical utility of the collections; (2) the accuracy of the estimated burden of the collections; (3) ways to enhance the quality, utility, and clarity of information subject to the collections; and (4) ways to minimize the burden of collections on respondents, including the use of automated collection techniques or other forms of information technology.

Comments to Coast Guard or OIRA must contain the OMB Control Number of the ICRs addressed. Comments to Coast Guard must contain the docket number of this request, [USCG 2007-0045]. For your comments to OIRA to be considered, they must be received on or before April 4, 2008.

Public participation and request for comments: We encourage you to respond to this request by submitting comments and related materials. We will post all comments received, without change, to http://www.regulations.gov. They will include any personal information you provide. We have an agreement with DOT to use their DMF. Please see the paragraph on DOT's “Privacy Act Policy” below.

Submitting comments: If you submit a comment, please include the docket number [USCG-2007-0045], indicate the specific section of the document to which each comment applies, providing a reason for each comment. We recommend you include your name, mailing address, an e-mail address, or other contact information in the body of your document so that we can contact you if we have questions regarding your submission. You may submit comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them. The Coast Guard and OIRA will consider all comments and material received during the comment period.

Viewing comments and documents: Go to http://www.regulations.gov to view documents mentioned in this notice as being available in the docket. Click on “Search for Dockets,” and enter the docket number (USCG-2007-0045) in the Docket ID box, and click enter. You may also visit the DMF in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or by visiting http://DocketsInfo.dot.gov.

Previous Request for Comments

This request provides a 30-day comment period required by OIRA. The Coast Guard has published the 60-day notice (72 FR 64233, November 15, 2007) required by 44 U.S.C. 3506(c)(2). That notice elicited no comments.

Information Collection Request

1. Title: Application and Permit to Handle Hazardous Materials.

OMB Control Number: 1625-0005.

Type of Request: Extension of a currently approved collection.

Affected Public: Shipping agents and terminal operators that handle hazardous materials.

Abstract: Sections 1225 and 1231 of 33 U.S.C. authorize the Coast Guard to establish standards for the handling, storage, and movement of hazardous materials on a vessel and waterfront facility. Regulations in 33 CFR 126.17, 49 CFR 176.100, and 176.415 prescribe the rules for facilities and vessels.

Burden Estimate: The estimated burden has increased from 145 hours to 185 hours a year.

2. Title: Security Zones, Regulated Navigation Areas, and Safety Zones.

OMB Control Number: 1625-0020.

Type of Request: Extension of a currently approved collection.

Affected Public: Federal, State, and local government agencies, vessels, and facilities.

Abstract: Sections 1226 and 1231 of 33 U.S.C.; 50 U.S.C. 191 and 195; and parts 6 and 165 of 33 CFR give the Coast Guard Captain of the Port (COTP) the authority to designate security zones in the U.S. for as long as deemed necessary to prevent damage or injury. Section 1223 of 33 U.S.C. authorizes the Coast Guard to prescribe rules to control vessel traffic in areas deemed hazardous because of reduced visibility, adverse weather, or vessel congestion. Section 1225 of 33 U.S.C. authorizes the Coast Guard to establish rules to allow the designation of safety zones where access is limited to authorized persons, vehicles, or vessels to protect the public from hazardous situations.

Burden Estimate: The estimated burden has increased from 194 hours to 295 hours a year.

3. Title: Self-propelled Liquefied Gas Vessels.

OMB Control Number: 1625-0029.

Type Of Request: Extension of a currently approved collection.

Affected Public: Owners and operators of self-propelled vessels carrying liquefied gas.

Abstract: Sections 3703 and 9101 of 46 U.S.C. authorize the Coast Guard to establish regulations to protect life, property, and the environment from the hazards associated with the carriage of dangerous liquid cargo in bulk. Part 154 of 46 CFR prescribes these rules for the carriage of liquefied gases in bulk on self-propelled vessels by governing the design, construction, equipment, and operation of these vessels and the safety of personnel aboard them.

Burden Estimate: The estimated burden has increased from 5,416 hours to 6,566 hours a year.

4. Title: Plan Approval and Records for Electrical Engineering Regulations—Title 46 CFR Subchapter J.

OMB Control Number: 1625-0031.

Type Of Request: Extension of a currently approved collection.

Affected Public: Owners, operators, and builders of vessels.

Abstract: Sections 3306 and 3703 of 46 U.S.C. authorize the Coast Guard to establish rules to promote the safety of life and property in commercial vessels. The electrical engineering rules appear at 46 CFR chapter I, subchapter J (parts 110 through 113).

Burden Estimate: The estimated burden has increased from 1,151 hours to 3,529 hours a year.

5. Title: Streamlined Inspection Program (SIP).

OMB Control Number: 1625-0085.

Type Of Request: Extension of a currently approved collection.

Affected Public: Owners and operators of vessels.

Abstract: Section 3306 of 46 U.S.C. authorizes the Coast Guard to prescribe regulations necessary to carry out inspections of vessels required under 46 U.S.C. 3301. Within the same subtitle, section 3103 allows the Coast Guard to rely on reports, documents, and records of other persons/methods determined to be reliable, to ensure compliance with vessels and seamen requirements. The SIP regulations under 46 CFR part 8, subpart E, offer owners and operators of inspected vessels an alternative to traditional Coast Guard inspection procedures. Owners and operators of vessels opting to participate in the program will maintain them in compliance with a Company Action Plan (CAP) and Vessel Action Plan (VAP). They will have their own personnel periodically perform many of the tests/examinations conducted by marine inspectors of the Coast Guard, who expect participating vessels will continuously meet a higher level of safety/readiness throughout the inspection cycle.

Burden Estimate: The estimated burden has increased from 2,138 hours to 2,496 hours a year.

Dated: February 14, 2008.
D.T. Glenn
Rear Admiral, U.S. Coast Guard, Assistant Commandant for Command, Control, Communications, Computers and Information Technology.

[FR Doc. E8-4194 Filed 3-4-08; 8:45 am]

BILLING CODE 4910-15-P